NATIONAL ARCHIVES AND RECORDS ADMINISTRATION

36 CFR Part 1254

[FDMS Docket NARA-09-0004]

RIN 3095-AB59

Researcher Identification Card

AGENCY: National Archives and Records Administration (NARA).

ACTION: Proposed rule.

SUMMARY: The proposed rule will require researchers using original records, NARA microfilm, and public use computers at the National Archives Building in Washington, DC, to obtain a researcher identification card. Researchers at regional archives are also required to obtain a researcher identification card when there is no separate research room for the use of microfilm and public access computers. The proposed rule also updates our regulations to reflect changes in available technology and research room practices, such as abolishing the three-hour time limit for using microfilm readers. This proposed rule will affect the public.

DATES: Comments are due by November 24, 2009.

ADDRESSES: NARA invites interested persons to submit comments on this proposed rule. Comments may be submitted by any of the following methods:

• Federal eRulemaking Portal: http://www.regulations.gov. Follow the instructions for submitting comments.

• Fax: Submit comments by facsimile transmission to 301-837-0319.

• Mail: Send comments to Regulations Comments Desk (NPOL), Room 4100, Policy and Planning Staff, National Archives and Records Administration, 8601 Adelphi Road, College Park, MD 20740-6001.

• Hand Delivery or Courier: Deliver comments to 8601 Adelphi Road, College Park, MD.

FOR FURTHER INFORMATION CONTACT: Marilyn Redman at 301-837-1850; or, fax number 301-837-0319.

SUPPLEMENTARY INFORMATION: The proposed rule modifies our regulations relating to the public use of Federal records and donated historical materials. In particular, we are modifying the regulation addressing the issuance of researcher identification cards to enhance security in the National Archives Building in Washington, DC, and some other NARA facilities. For many years, we have not required researchers who use only microfilm publications (i.e., copies on microfilm of original records) to register for a researcher identification card in our facilities where microfilm research is conducted separately from research rooms servicing original records. We have registered researchers who use original records in order to better understand our researchers' needs and provide us with a way to contact them in case we need to follow up on their visit.

Over the last few years, we have determined that requiring our microfilm researchers in the National Archives Building to register for a researcher identification card will strengthen our security to protect buildings, people, and the records we hold. The electronic system that NARA uses to generate researcher identification cards in the Washington, DC, area, enables us to track the various research rooms that each person visits. Tracking researcher visits helps ensure more accurate counting of researchers to measure our performance in customer service delivery and to effectively allocate resources.

What changes are we making in this proposed rule?

We are proposing substantive changes by amending the following sections:

• § 1254.6(b): We are adding the requirement for researchers using the National Archives Building, even those only using microfilm publications or public use computers, to apply for and obtain a researcher identification card. This rule applies to regional archives facilities, as well, except where the microfilm research area is separate from the area where original records are used. We made other changes in the text to reflect that none of the affected facilities has more than one textual research room.

• § 1254.22(a): The term “bar-coded” is deleted and replaced with the broader term “encoded.” We no longer use bar-codes on researcher identification cards in the Washington, DC, area. The plastic cards we issue now have a magnetic strip and future cards may use other technology.

• § 1254.44(a): Because fewer researchers are using microfilm and there are no waits, the 3-hour limit on use and waiting lists are no longer needed for the use of microfilm readers. We are removing references to the 3-hour limit.

• § 1254.84: Since this section was last revised, the researcher identification card can be linked to a personal account established through the National Archives Trust Fund Cashier's Office and function as a debit card in Washington, DC, area research rooms. The regulation is being clarified to describe that capability. In addition, we are removing discussion of deposit accounts, which are no longer maintained by the Trust Fund.

We also are making non-substantive editorial changes in §§ 1254.6(c) and 1254.10(b).

Paperwork Reduction Act

The information collection in this regulation was previously approved by the Office of Management and Budget (OMB) under OMB control number 3095-0016, which expires on September 30, 2011.

This proposed rule is not a significant regulatory action for the purposes of Executive Order 12866 and has been reviewed by the Office of Management and Budget. As required by the Regulatory Flexibility Act, I certify that this rule will not have a significant impact on a substantial number of small entities because the regulation affects individual researchers. This regulation does not have any federalism implications.

List of Subjects in 36 CFR Part 1254

Archives and records.

For the reasons set forth in the preamble, NARA proposes to amend part 1254, in title 36 of the Code of Federal Regulations, as follows:

PART 1254—USING RECORDS AND DONATED HISTORICAL MATERIALS

1. The authority citation for part 1254 continues to read as follows:

Authority: 44 U.S.C. 2101-2118.

2. Amend § 1254.6 by revising paragraphs (b) and (c) to read as follows:

§ 1254.6 Do I need a researcher identification card to use archival materials at a NARA facility?

* * * * *

(b) You also need a researcher identification card if you wish to use only microfilm copies of documents at NARA's Washington, DC, area facilities and in any NARA facility where the microfilm research room is not separate from the textual research room.

(c) If you are using only microfilm copies of records in some regional archives where the microfilm research room is separate from the textual room, you do not need an identification card but you must register as described in § 1254.22.

3. Amend § 1254.10 by revising paragraph (b) to read as follows:

§ 1254.10 For how long and where is my researcher identification card valid?

* * * * *

(b) At NARA facilities in the Washington, DC, area and other NARA facilities that issue and use plastic researcher identification cards as part of their security systems, we issue a plastic card to replace the paper card issued at some NARA facilities at no charge. The plastic card is valid at all NARA facilities.

4. Amend § 1254.22 by revising paragraph (a) to read as follows:

§ 1254.22 Do I need to register when I visit a NARA facility for research?

(a) Yes, you must register each day you enter a NARA research facility by furnishing the information on the registration sheet or scanning an encoded researcher identification card. We may ask you for additional personal identification.

* * * * *

5. Amend § 1254.44 by revising paragraph (a) to read as follows:

§ 1254.44 How long may I use a microfilm reader?

(a) Use of the microfilm readers in the National Archives Building is on a first-come-first served basis.

* * * * *

8. Revise § 1254.84 to read as follows:

1254.84 How may I use a debit card for copiers in the Washington, DC, area?

Your research identification card can be used as a debit card if you arrange with the Cashier's Office to set up an account using cash, check, money order, debit card, or credit card. Your researcher identification card number as encoded on the card forms the basis of your account in the debit system. You may also purchase generic debit cards of values up to $20 each from the Cashier's Office using any of the above payment methods. When the Cashier's Office is closed or at any other time during the hours research rooms are open as cited in part 1253 of this chapter, you may use cash or credit card to purchase a debit card from the vending machines located in the research rooms. Inserting the debit card into a card reader connected to the copier enables you to make copies for the appropriate fee, which are found in § 1258.12 of this chapter. You can add value to your card using the vending machine in the research room or at the Cashier's Office. We do not make refunds.

Dated: September 21, 2009.
Adrienne C. Thomas,
Acting Archivist of the United States.

[FR Doc. E9-23225 Filed 9-24-09; 8:45 am]

BILLING CODE 7515-01-P